DEPARTMENT OF TRANSPORTATION

Federal Aviation Administration

14 CFR Part 71

[Docket No. FAA-01-ANM-16; Airspace Docket No. 02-AMM-16]

Establishment of Class E Airspace at Richfield Municipal Airport, Richfield, UT

AGENCY: Federal Aviation Administration (FAA), DOT.

ACTION: Final rule; correction.

SUMMARY: This action corrects an error in the longitude of the east boundary description of the newly established Class E airspace at Richfield Municipal Airport, Richfield, UT, that was published on May 7, 2003 (68 FR 24341), Airspace Docket 01-ANM-16

EFFECTIVE DATE: 0901 UTC, October 4, 2003.

FOR FURTHER INFORMATION CONTACT: Ed Haeseker, ANM-520.7; telephone (425) 227-2527; Federal Aviation Administration, Docket No. 01-ANM-16, 1601 Lind Avenue SW., Renton, Washington 98055-4056.

SUPPLEMENTARY INFORMATION: History: Airspace Docket 01-ANM-16 published on May 7, 2003 (68 FR 24341), established Class E Airspace at Richfield Municipal Airport, Richfield, UT effective date of May 7, 2003. An error was discovered in the published description for the East side Class E Airspace boundary of the Richfield Municipal Airport, Richfield, UT. This action corrects that error.

Accordingly, 14 CFR part 71 is corrected by making the following correcting amendments:

PART 71—[AMENDED]

List of Subjects in 14 CFR Part 71

Airspace, Incorporation by reference, Navigation (air).

1. The authority citation for part 71 continues to read as follows:

Authority: 49 U.S.C. 106(g); 40103, 40113, 40120; E.O. 10854, 24 FR 9565, 3 CFR, 1959-1963 Comp., p. 389.

§ 71.1 [Corrected]

2. The geographic coordinates for the East side of the Class E Airspace boundary of the Richfield Municipal Airport, Richfield, UT, as published in the Federal Register on May 7, 2003 (68 FR 24341), (Airspace Docket 01-ANM-16); page 24342, column 1, are corrected as follows:

* * * * *

ANM UT E5 Richfield, UT [Amended]

[Lat. N38°44′11″, long. W112°05′56″;]

That airspace extending upward from 700 feet above the surface of the earth within 7.5 mile radius of the Richfield Municipal Airport; and that airspace extending upward from 1,200 feet, above the surface of the earth bounded by a line beginning at lat. N39°24′30″, long. W112°27′41″, to lat. N39°16′00″, long. W112°00′00″, to lat. N39°42′00″, long. W110°54′00″, to lat. N39°27′00″, long. W110°46′00″, to lat. N39°03′00″, long. W111°30′00″, to lat. N38°31′15″, long. W110°36′00″, to lat. N38°20′00″, long. W110°48′00″, to lat. N38°40′00″, long W111°47′00″, to lat. N38°16′40″, long. W112°36′40″, to lat. N38°29′00″, long. W112°53′00″, to lat. N39°11′30″, long. W112°34′00″; thence to the point of origin; excluding that airspace within Federal Airways and the Price, UT, Huntington, UT, Milford, UT, and Delta, UT Class E airspace.

* * * * *

Issued in Seattle, Washington, July 28, 2003.
John L. Pipes,
Acting Manager, Air traffic Division, Northwest Mountain Region.

[FR Doc. 03-20408 Filed 8-11-03; 8:45 am]

BILLING CODE 4910-13-M